FEDERAL COMMUNICATIONS COMMISSION

Notice of Public Information Collection(s) Being Reviewed by the Federal Communications Commission for Extension Under Delegated Authority, Comments Requested

November 14, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before January 22, 2002. If you anticipate that you will be submitting comments, but find it difficult to do so within the period of time allowed by this notice, you should advise the contact listed below as soon as possible.

ADDRESS: Direct all comments to Les Smith, Federal Communications Commissions, Room 1 A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0065.

Title: Application for New or Modified Radio Stations Authorization Under Part 5 of the FCC Rules—Experimental Radio Service.

Form No.: FCC Form 442.

Type of Review: Extension of a currently approved collection.

Respondents: Not-for-profit institutions; Business or other for-profit; and State, Local or Tribal Government.

Number of Respondents: 700.

Estimated Time Per Response: 4 hours.

Total Annual Burden: 2,800 hours.

Total Estimated Cost: None.

Needs and Uses: FCC Form 442 is required to be filed by Sections 5.55 (a), (b), and (c) of the FCC Rules and Regulations by applicants requiring an FCC license to operate a new or modified experimental radio station. The data supplied by this form are used by communications clerk, legal instruments examiners and engineers of the FCC to determine: (1) If the applicant is eligible for an experimental license; (2) the purpose of the experiment; (3) compliance with the requirements of Part 5 of the FCC Rules; and (4) if the proposed operation will cause interference to existing operations. The FCC could not grant an experimental license without the information contained on this form. Revision of the form is not required.

OMB Approval Number: 3060-0484.

Title: Amendment of Part 63 of the Commission's Rules to Provide for Notification of Common Carriers of Service Disruptions—Section 63.100.

Form No.: None.

Type of Review: Extension of a currently approved collection.

Respondents: Not-for-profit institutions; Business or other for-profit; and State, Local or Tribal Government.

Number of Respondents: 52.

Estimated Time Per Response: 5 hours.

Total Annual Burden: 1,040 hours.

Total Estimated Cost: None.

Needs and Uses: Section 63.100 of the Commission's rules requires that “any local exchange or inter-exchange common carrier that operates transmission or switching facilities and provides access service or interstate or international telecommunications service that experiences an outage on any facilities which it owns or operates must notify the Commission if such service outage continues for 30 or more minutes. An initial and a final outage report is required for each outage. The reports enable us to monitor developments affecting telecommunications reliability; to serve as a source of information for the public; to encourage and, where appropriate, assist in dissemination of information to those affected; and to take immediate steps, as needed, and after analyzing the information submitted, to determine what, if any, other action is required.

OMB Approval No.: 3060-0062.

Title: Application for Authorization to Construct New or Make Changes In an Instructional Television Fixed and/or Response Station(s), or to Assign or Transfer Such Station(s).

Form No.: FCC 330.

Type of Review: Extension of currently approved collection.

Respondents: Not-for-profit institutions, state, local or tribal government.

Number of Respondents: 500.

Estimated Hours Per Response: 10 hours (1 hour respondent, 6 hours contract engineer, 3 hours contract attorney).

Frequency of Response: Reporting, on occasion.

Cost to Respondents: $750,000.

Estimated Total Annual Burden: 500 hours.

Needs and Uses: FCC Form 330 is used to apply for authority to construct a new or make changes in an Instructional Television Fixed or response station and low power relay station, or for consent to license assignment or transfer of control. The data is used by FCC staff to determine if the applicant meets basic statutory requirements and is qualified to become a licensee of the Commission.

Federal Communications Commission.
Magalie Roman Salas,
Secretary.

[FR Doc. 01-29082 Filed 11-20-01; 8:45 am]

BILLING CODE 6712-01-P